DEPARTMENT OF TRANSPORTATION

Federal Aviation Administration

Office of Commercial Space Transportation Safety Approval Performance Criteria

AGENCY: Federal Aviation Administration (FAA), DOT.

ACTION: Notification of criteria used to evaluate the National Aerospace Training and Research (NASTAR) Center safety approval application.

SUMMARY: The FAA issued NASTAR a safety approval, subject to the provisions of Title 51 U.S.C. Subtitle V, ch. 509, and the orders, rules and regulations issued under it. Pursuant to Title 14 Code of Federal Regulations (14 CFR) 414.35, this Notice publishes the criteria that were used to evaluate the safety approval application.

Background

NASTAR applied for, and received, a safety approval for the ability of its Falcon 12/4 Altitude Chamber to replicate pressures experienced at altitude levels. The performance criteria for this safety approval are applicant developed per 14 CFR 414.19(a)(4). NASTAR's Falcon 12/4 Altitude Chamber is capable of replicating any pressure experienced at altitudes from zero (0) feet up to 100,000 feet. This includes rapid decompression up to equalization altitudes of 30,800 feet.

Criteria Used To Evaluate Safety Approval Application

The Falcon 12/4 Altitude Chamber was evaluated by the FAA as a component of a flight crew qualification and training process. The evaluation included the FAA's assessment of the Falcon 12/4 Altitude Chamber's ability to accurately replicate the specified pressure levels.

NASTAR submitted the following data to show that the Falcon 12/4 Altitude Chamber complies with the criteria:

—Acceptance Test Plan,

—Pressure profile demonstrations, and

—Altimeter and pressure gauge test results.

FOR FURTHER INFORMATION CONTACT: For questions about the performance criteria, you may contact Randal Maday, Licensing and Evaluation Division (AST-200), FAA Office of Commercial Space Transportation (AST), 800 Independence Avenue SW., Room 331, Washington, DC 20591, telephone (202) 267-8652; Email randal.maday@faa.gov.

Issued in Washington, DC, on September 17, 2012.
George C. Nield,
Associate Administrator for Commercial Space Transportation.

[FR Doc. 2012-23360 Filed 9-20-12; 8:45 am]

BILLING CODE 4910-13-P